DEPARTMENT OF COMMERCE

National Oceanic and Atmospheric Administration

RIN 0648-XA186

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a four-day webinar meeting to consider actions affecting the Gulf of Mexico fisheries in the exclusive economic zone (EEZ).

DATES: The webinar will convene Monday, June 15 through Thursday, June 18, 2020; 9:30 a.m. until 4 p.m.

ADDRESSES: The meeting will take place via webinar; you may register for the meeting at www.gulfcouncil.org.

Council address: Gulf of Mexico Fishery Management Council, 4107 W. Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Agenda

Monday, June 15, 2020; 9:30 a.m.-10:45 a.m.

The meeting will begin in a CLOSED SESSION of the FULL COUNCIL to select members to the Coastal Migratory Pelagics and Red Drum Advisory Panels; and, selection of the 2019 Law Enforcement Officer/Team of the Year.

Monday, June 15, 2020; 11:00 a.m.-4 p.m.

The meeting will open to the general public mid-morning (approximately 11 a.m.) beginning with the Administrative/Budget Committee reviewing the Gulf Council Standard Operating Policies and Procedures—Section 3.0 Council Meetings. The Sustainable Fisheries Committee will review the Government Accountability Office (GAO) report on Allocations and receive an update from the Allocation Review Working Group. The Committee will review the Final Action—Framework Action: Modification of Fishing Access in Eastern Gulf of Mexico Marine Protected Areas and a summary report from the Joint Working Group on Section 102: Modernizing Recreational Fisheries Management Act of 2018.

Tuesday, June 16, 2020; 9:30 a.m.-4 p.m.

The Reef Fish Committee will review the status of Gulf State Recreational Data Collection Programs and 2020 Red Snapper Seasons, and the Reef Fish and Coastal Migratory Pelagics (CMP) Landings. The Committee will receive a presentation and hold a discussion on Calibration Process for Red Snapper with the Gulf States; receive an update on Federal Fisheries Assistance Package, Process, and Status; and, discuss Fishing Industry Impacts due to COVID-19 and Potential Emergency Rule Requests. The committee will review SEDAR 67—Gulf of Mexico Vermilion Snapper Stock Assessment and SSC recommendations. The Committee will receive an update on the Recreational Closure Analysis for Gulf Red Grouper; and, review Draft Framework Action: Modification of the Gulf of Mexico Lane Snapper Annual Catch Limit (ACL).

Wednesday, June 17, 2020; 9:30 a.m.-3:30 p.m.

The Gulf SEDAR Committee will receive a summary report from the SEDAR Steering Committee and review the Gulf of Mexico SEDAR Schedule. The Data Collection Committee will receive updates on Commercial Electronic Logbook Pilot Project and Southeast For-hire Electronic Reporting (SEFHIER) Program.

Full Council will convene after lunch with a Call to Order, Announcements, and Introductions; Adoption of Agenda and Approval of Minutes. The Council will hold public comment testimony beginning at approximately 1:20 p.m. until 3:30 p.m. on Final Action—Framework Action: Modification of Fishing Access in Eastern Gulf of Mexico Marine Protected Areas; and, open testimony on other fishery issues or concerns. Public comment may begin earlier than 1:20 p.m. EDT but will not conclude before that time. Persons wishing to give public testimony must register on the Council website before the start of the public comment period at 1:20 p.m. EDT.

Thursday, June 18, 2020; 9:30 a.m.-4 p.m.

The Council will receive committee reports from Reef Fish, Gulf SEDAR, and Data Collection Committees; and, announce the 2019 Law Enforcement Officer or Team of the Year Selection. The Council will receive committee reports from Sustainable Fisheries; Administrative/Budget and updates from the following supporting agencies: South Atlantic Fishery Management Council; NOAA Office of Law Enforcement (OLE), Gulf States Marine Fisheries Commission; U.S. Coast Guard; U.S. Fish and Wildlife Service; Department of State.

Lastly, the Council will discuss Other Business items.

—Meeting Adjourns

The meeting will be broadcast via webinar. You may register for the webinar by visiting www.gulfcouncil.org and clicking on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during these meetings. Actions will be restricted to those issues specifically listed in this notice and any issues arising after publication of this notice that require emergency action under section 305(c) of the Magnuson-Stevens Act, provided that the public has been notified of the Council's intent to take final action to address the emergency.

(Authority: 16 U.S.C. 1801 et seq.)

Dated: May 22, 2020.
Tracey L. Thompson,
Acting Deputy Director, Office of Sustainable Fisheries, National Marine Fisheries Service.

[FR Doc. 2020-11482 Filed 5-27-20; 8:45 am]

BILLING CODE 3510-22-P